DEPARTMENT OF THE INTERIOR

Bureau of Reclamation

[RR02800000, 15XR0687ND, RX.18527914.2050100]

Notice of Availability of the Bay Delta Conservation Plan/California WaterFix Partially Recirculated Draft Environmental Impact Report/Supplemental Draft Environmental Impact Statement and Announcement of Public Meetings

AGENCY: Bureau of Reclamation, Interior.

ACTION: Notice.

SUMMARY: This notice announces the availability of the Bay Delta Conservation Plan/California WaterFix Partially Recirculated Draft Environmental Impact Report/Supplemental Draft Environmental Impact Statement (RDEIR/SDEIS) for public review and comment. The RDEIR/SDEIS has been prepared jointly between the Bureau of Reclamation and the California Department of Water Resources to describe and analyze refinement of the resource area analyses, alternatives, and actions, including three additional alternatives that describe conveyance options not containing all the elements of a Habitat Conservation Plan/Natural Communities Conservation Plan described in the previously circulated Draft EIR/EIS released on December 13, 2013.

Based on project revisions and in consideration of comments received on the Draft Bay Delta Conservation Plan, Draft EIR/EIS, and Draft Implementing Agreement, the State and Federal lead agencies recognize that additional information is appropriate to address comments and to enhance the environmental analysis.

DATES: Comments on the RDEIR/SDEIS must be received or postmarked by 5 p.m. Pacific Time on August 31, 2015.

Two public meetings will be held to provide an overview of the project and allow public comment and discussion on the RDEIR/SDEIS:

• Tuesday, July 28, 2015, 3:00 p.m.-7:00 p.m., Sacramento, CA.

• Wednesday, July 29, 2015, 3:00 p.m.—7:00 p.m., Walnut Grove, CA.

ADDRESSES: You may submit written comments by one of the following methods:

1. By email: Submit comments to BDCPComments@icfi.com.

2. By hard-copy: Submit comments by U.S. mail to BDCP/WaterFix Comments, P.O. Box 1919, Sacramento, CA 95812.

The two public meetings will be held at the following locations:

• Sacramento—Sheraton Grand Sacramento Hotel, Magnolia Room, 1230 J Street, Sacramento, CA 95814.

• Walnut Grove—Jean Harvie Community Center, 14273 River Road, Walnut Grove, CA 95690.

To view or download the RDEIR/SDEIS, or for a list of locations to view hard-bound copies, go to www.baydeltaconservationplan.com.

FOR FURTHER INFORMATION CONTACT: Ms. Michelle Banonis, Bureau of Reclamation, (916) 930-5676.

SUPPLEMENTARY INFORMATION:

Background

On January 24, 2008, the U.S. Fish and Wildlife Service (USFWS) and National Marine Fisheries Service (NMFS) issued a Notice of Intent (NOI) to prepare an EIS on the Bay Delta Conservation Plan (BDCP or Plan) (73 FR 4178). The NOI was re-issued on April 15, 2008, to include the Bureau of Reclamation (Reclamation) as a co-lead Federal agency, update the status of the planning process, and provide updated information related to scoping meetings (73 FR 20326). The April 15, 2008, NOI identified scoping meeting locations and stated that written comments would be accepted until May 30, 2008. Additional information was later developed to describe the proposed BDCP, and subsequent scoping activities were initiated on February 13, 2009, with the publication of a revised NOI (74 FR 7257). The NOI identified scoping meeting locations and stated that written comments would be accepted until May 14, 2009.

In 2008, ten public scoping meetings were held throughout California. In spring 2009, a summary update was produced and distributed about the development of the Plan to interested members of the public, including details of individual elements of the Plan (referred to in the Plan as “conservation measures”) that were being considered as part of the conservation strategy. Twelve additional public scoping meetings were then held throughout California, seeking input about the scope of covered activities and potential alternatives to the proposed action.

In December 2010, the California Natural Resources Agency disseminated to the public a summary of the BDCP, its status, and a list of outstanding issues. In 2011 and 2012, public meetings continued in Sacramento, California, to update stakeholders and the public on elements of the draft BDCP and EIR/EIS that were being developed.

On December 13, 2013, the Draft BDCP and associated Draft EIR/EIS were released to the public and a 120-day public comment period was opened through notification in the Federal Register (78 FR 75939). That notice described the proposed action and a reasonable range of alternatives. Twelve more public meetings were held in California in early 2014. In response to requests from the public, the comment period was extended for an additional 60 days and closed on June 13, 2014 (79 FR 17135; March 27, 2014). A Draft Implementing Agreement was also made available to the public on May 30, 2014, for a 60-day review and comment period, which closed on July 29, 2014. The comment period of the Draft EIR/EIS was also extended to the later date. All draft documents are available at www.baydeltaconservationplan.com.

As a result of considering comments on the Draft BDCP, Draft EIR/EIS, and Draft Implementing Agreement, Reclamation and the California Department of Water Resources have proposed three additional conveyance alternatives for analysis in the RDEIR/SDEIS. These new alternatives 2D, 4A, and 5A, each contain fewer Conservation Measures than the conveyance alternatives circulated in the Draft EIR/EIS. Specifically, the new alternatives no longer contain the following Conservation Measures: CM-2 Yolo Bypass Fisheries Enhancement; CM-5 Seasonally Inundated Floodplain Restoration; CM-13 Invasive Aquatic Vegetation Control; CM-14 Stockton Deep Water Ship Channel Dissolved Oxygen Levels; CM-17 Illegal Harvest Reduction; CM-18 Conservation Hatcheries; CM-19 Urban Stormwater Treatment; CM-20 Recreational Users Invasive Species Program; and CM-21 Non-project Diversions. The new alternatives contain modified versions of the following Conservation Measures (referred to as Environmental Commitments in the RDEIR/SDEIS): CM-3 Natural Communities Protection and Restoration; CM-4 Tidal Natural Communities Restoration; CM-6 Channel Margin Enhancement; CM-7 Riparian Natural Community Restoration; CM-8 Grassland Natural Community Restoration; CM-9 Vernal Pool and Alkali Seasonal Wetland Complex Restoration; CM-10 Nontidal Marsh Restoration; CM-11 Natural Communities Enhancement and Management; CM-12 Methylmercury Management; CM-15 Localized Reduction of Predatory Fishes; and CM-16 Non-Physical Fish Barriers. The new alternatives are not structured as a Habitat Conservation Plan/Natural Communities Conservation Plan but are structured to achieve compliance with the Federal Endangered Species Act through consultation under Section 7 and the California Endangered Species Act through the incidental take permit process under Section 2081(b) of the California Fish & Game Code.

The California Department of Water Resources has identified Alternative 4A (known as the California WaterFix) as their proposed project and Reclamation has selected Alternative 4A as the National Environmental Policy Act (NEPA) preferred alternative. This alternative will consist of a water conveyance facility with three intakes, habitat restoration measures necessary to minimize or avoid project effects, and the previously described Conservation Measures. Alternative 4A is proposed to make physical and operational improvements to the State Water Project system in the Delta necessary to restore and protect ecosystem health, water supplies of the State Water Project and Central Valley Project south-of-Delta, and water quality within a stable regulatory framework, consistent with statutory and contractual obligations.

The RDEIR/SDEIS will also analyze the impacts for two additional new alternatives: Alternative 2D, which will consist of a water conveyance facility with five intakes, and Alternative 5A, which will consist of a water conveyance facility with one intake. Both of these alternatives will contain the habitat protection and restoration measures necessary to minimize or avoid project effects, and the previously described Conservation Measures listed above. In addition, the RDEIR/SDEIS will describe and analyze project modifications and refinement of the resource area analyses, alternatives, and actions. Reclamation will be the Federal lead agency and NMFS, USFWS, and the U.S. Army Corps of Engineers, by virtue of their regulatory review requirements, will be cooperating agencies for the RDEIR/SDEIS. All other entities identified as Cooperating Agencies through prior agreements will retain their status for the RDEIR/SDEIS.

Council on Environmental Quality regulations for implementing NEPA (40 CFR 1502.9(c)) do not require any additional scoping for a supplement to a Draft EIS, and the lead agencies are not proposing any scoping process for this RDEIR/SDEIS in addition to the scoping that has already been done for the EIR/EIS as described above.

For further background information, see the December 13, 2013, Federal Register notice (78 FR 75939).

Public Disclosure of Comments

This notice is provided pursuant to NEPA. Reclamation is furnishing this notice to allow other agencies and the public an opportunity to review and comment on this RDEIR/SDEIS. All comments received will become part of the public record for this action. Comments on the RDEIR/SDEIS should be submitted to the address listed in the ADDRESSES section of this document. Before including your address, phone number, email address, or other personal identifying information in your comment, you should be aware that your entire comment—including your personal identifying information—may be made publicly available at any time. While you may ask us in your comment to withhold your personal identifying information from public review, we cannot guarantee that we will be able to do so. Comments submitted to the above address will be reviewed and considered by all of the cooperating agencies.

Next Steps

Reclamation will compile and review all public comments on the RDEIR/SDEIS submitted to them prior to preparation of a final EIR/EIS. A decision by Reclamation on Central Valley Project operations consistent with the RDEIR/SDEIS will be made no sooner than 30 days after the publication of the final EIR/EIS. The decision will be documented with the completion of the Record of Decision.

Special Accommodations

The public meetings are physically accessible to people with disabilities. Requests for sign language interpretation or other auxiliary aids should be directed to Ms. Michelle Banonis, Bureau of Reclamation, (916) 930-5676 at least 5 working days prior to the meeting date.

Dated: July 2, 2015.
Willie R. Taylor,
Director, Office of Environmental Policy and Compliance.

[FR Doc. 2015-16903 Filed 7-9-15; 8:45 am]

BILLING CODE 4332-90-P